COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes products from the Procurement List previously furnished by such agencies.

DATES: Date added to the Procurement List: February 25, 2018.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 12/15/2017 (82 FR 240) and 12/22/2017 (82 FR 245), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Grounds Maintenance Service

Mandatory for: U.S. Coast Guard Station Atlantic City, 900 Beach Thorofare, Atlantic City, NJ

Mandatory Source of Supply: Fedcap Rehabilitation Services, Inc., New York, NY

Contracting Activity: U.S. Coast Guard, TRACEN CAPE MAY (00042)

Service Type: Custodial Service

Mandatory for: U.S. Customs and Border Protection, 6604 E. Rutter Ave., Hangar 32, Spokane, WA

Mandatory Source of Supply: Good Works, Inc., Spokane, WA

Contracting Activity: U.S. Customs and Border Protection, Air and Marine CTR Div

Service Type: Mail and Supply Center Operations Service

Mandatory for: DARPA Headquarters, 675 North Randolph Street, Arlington, VA

Mandatory Source of Supply: Linden Resources, Inc., Arlington, VA

Contracting Activity: Defense Advanced Research Projects Agency (DARPA)

Deletions

On 12/22/2017 (82 FR 245), the Committee for Purchase From People Who Are Blind or Severely Disabled published notice of proposed deletions from the Procurement List.

After consideration of the relevant matter presented, the Committee has determined that the products below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN—Product Name: PSIN TO12M—Kit, Wee-Deliver Starter

Mandatory Source of Supply: New Horizons Rehabilitation Services, Inc., Auburn Hills, MI

Contracting Activity: U.S. Postal Service

NSNs—Product Names:

7920-01-512-4960—Mop Head, Wet, Looped-End, Anti-Microbial, 32 oz., Yellow

7920-01-512-8967—Mop Head, Wet, Looped-End, Anti-Microbial, 32 oz., White

7920-01-512-8970—Mop Head, Wet, Looped-End, Anti-Microbial, 32 oz., Red

7920-01-512-8971—Mop Head, Wet, Looped-End, Anti-Microbial, 32 oz., Orange

7920-01-512-9340—Mop Head, Wet, Looped-End, Anti-Microbial, 22 oz., Red

7920-01-512-9341—Mop Head, Wet, Looped-End, Anti-Microbial, 22 oz., Yellow

7920-01-512-9342—Mop Head, Wet, Looped-End, Anti-Microbial, 22 oz., Orange

7920-01-512-9344—Mop Head, Wet, Looped-End, Anti-Microbial, 22 oz., White

7920-01-512-9346—Mop Head, Wet, Looped-End, Anti-Microbial, 20 oz., Yellow

7920-01-513-4767—Mop Head, Wet, Looped-End, Anti-Microbial, 24 oz., Yellow

7920-01-513-4769—Mop Head, Wet, Looped-End, Anti-Microbial, 16 oz., Yellow

Mandatory Source of Supply: Alphapointe, Kansas City, MO

Contracting Activities: Department of Veterans Affairs, Strategic Acquisition Center, General Services Administration, Fort Worth, TX

Patricia Briscoe,
Deputy Director, Business Operations, (Pricing and Information Management).

[FR Doc. 2018-01439 Filed 1-25-18; 8:45 am]

BILLING CODE 6353-01-P